DEPARTMENT OF THE INTERIOR

National Park Service

[NPS-WASO-NAGPRA-NPS0036871; PPWOCRADN0-PCU00RP14.R50000]

Notice of Intent To Repatriate Cultural Items: University of Denver Museum of Anthropology, Denver, CO

AGENCY: National Park Service, Interior.

ACTION: Notice.

SUMMARY: In accordance with the Native American Graves Protection and Repatriation Act (NAGPRA), the University of Denver Museum of Anthropology intends to repatriate certain cultural items that meet the definition of unassociated funerary objects and one cultural item that meets the definition of a sacred object and that have a cultural affiliation with the Indian Tribes or Native Hawaiian organizations in this notice. The cultural items were removed from Cheyenne County, NE, Phillips County, KS, an unknown county in KS, and an unknown county and state.

DATES: Repatriation of the cultural items in this notice may occur on or after December 7, 2023.

ADDRESSES: Anne Amati, University of Denver Museum of Anthropology, 2000 E Asbury Ave, Sturm Hall 146, Denver, CO 80210, telephone (303) 871-2687, email anne.amati@du.edu.

SUPPLEMENTARY INFORMATION: This notice is published as part of the National Park Service's administrative responsibilities under NAGPRA. The determinations in this notice are the sole responsibility of the University of Denver Museum of Anthropology. The National Park Service is not responsible for the determinations in this notice. Additional information on the determinations in this notice, including the results of consultation, can be found in the summary or related records held by the University of Denver Museum of Anthropology.

Description

One cultural item was removed from an unknown location. It was donated to the museum by an unknown person in March of 1972. The one sacred object is a black elbow pipe (DU ID# 5743).

One cultural item was removed from the Republican River area, KS. At an unknown date, the item came into the possession of George E. Cuneo and was subsequently transferred to Fallis F. Rees. In 1967, Mr. Rees donated the item to the University of Denver Museum of Anthropology. The one unassociated funerary object is a stone pipe (DU ID#4120).

Forty-seven cultural items were removed from Phillips County, KS. Museum records indicate that the cultural items were collected from a site identified as a possible cemetery in 1965 by Mary Webster. The 47 unassociated funerary objects are one lot of charcoal pieces (DU ID# KS-Temp 1), 15 shells (DU ID# KS-Temp 2), one lot of fragments of non-human bones (DU ID# KS-Temp 3), six ceramic sherds (DU ID# KS-Temp 4), 20 stone flakes (DU ID# KS-Temp 5), one projectile point fragment (DU ID# KS-Temp 6), one projectile point (DU ID# KS-Temp 7), one stone knife (DU ID# KS-Temp 8), and one unmodified piece of wood (DU ID# KS-Temp 9).

Fifty-eight cultural items were removed from Cheyenne County, NE. Museum records indicate the items were removed from a rock shelter site by R.E. Cape of Dalton, NE, and that human remains were present. At an unknown date, the cultural items were transferred to E.B. Renaud, founder of the museum. The 58 unassociated funerary objects are 11 ceramic sherds (DU ID# NE I:12:4.1), 38 stone flakes (DU ID# NE I:12:4.2), seven pieces of ground stone (DU ID# NE I:12:4.3), one stone needle fragment (DU ID# NE I:12:4.4), and one polishing stone (DU ID# NE I:12:4.5).

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical information and oral tradition.

Determinations

Pursuant to NAGPRA and its implementing regulations, and after consultation with the appropriate Indian Tribes and Native Hawaiian organizations, the University of Denver Museum of Anthropology has determined that:

• The 106 cultural items described above are reasonably believed to have been placed with or near individual human remains at the time of death or later as part of the death rite or ceremony and are believed, by a preponderance of the evidence, to have been removed from a specific burial site of a Native American individual.

• The one cultural item described above is a specific ceremonial object needed by traditional Native American religious leaders for the practice of traditional Native American religions by their present-day adherents.

• There is a relationship of shared group identity that can be reasonably traced between the cultural items and the Cheyenne and Arapaho Tribes, Oklahoma.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 7, 2023. If competing requests for repatriation are received, the University of Denver Museum of Anthropology must determine the most appropriate requestor prior to repatriation. Requests for joint repatriation of the cultural items are considered a single request and not competing requests. The University of Denver Museum of Anthropology is responsible for sending a copy of this notice to the Indian Tribes and Native Hawaiian organizations identified in this notice.

Authority: Native American Graves Protection and Repatriation Act, 25 U.S.C. 3003, and the implementing regulations, 43 CFR 10.8, § 10.10, and § 10.14.

Dated: October 27, 2023.
Melanie O'Brien,
Manager, National NAGPRA Program.

[FR Doc. 2023-24529 Filed 11-6-23; 8:45 am]

BILLING CODE 4312-52-P